NATIONAL SCIENCE FOUNDATION

Committee on Equal Opportunities in Science and Engineering (CEOSE); Notice of Meeting

In accordance with the Federal Advisory Committee Act (Pub. L. 92-463, as amended), the National Science Foundation announces the following meeting:

Name: Committee on Equal Opportunities in Science and Engineering (1173).

Dates/Time: October 29, 2008, 1 p.m.—5:30 p.m. October 30, 2008, 8:30 a.m.—5:30 p.m. October 31, 2008, 8:30 am—2 p.m.

Place: National Science Foundation (NSF), 4201 Wilson Boulevard, Arlington, VA 22230.

Building entry badges must be obtained at the North Lobby Entrance of the above address. The meeting will be held in Room 1235 of the National Science Foundation Building located at 4201 Wilson Boulevard in Arlington, Virginia.

Type of Meeting: Open.

Contact Person: Dr. Margaret E.M. Tolbert. Senior Advisor and CEOSE Executive Liaison, Office of Integrative Activities, National Science Foundation, 4201 Wilson Boulevard, Arlington, VA 22230, Telephone Number: (703) 292-8040, mtolbert@nsf.gov.

Minutes: Minutes may be obtained from the Executive Liaison at the above address or the Web site at http://www.nsf.gov/od/oia/activities/ceose/index.jsp.

Purpose of Meeting: To study NSF programs and policies and provide advice and recommendations concerning broadening participation in science and engineering.

Agenda

Wednesday, October 29, 2008

Mini-Symposium: Native Americans in Science and Engineering.

Co-Sponsors: CEOSE and the NSF Centers Forum.

Opening Statement and Purpose of the Mini-Symposium by the CEOSE Chair.

Welcome by the NSF Deputy Director.

Introductions and Logistics by the CEOSE Executive Liaison.

Presentations and Discussions by Persons Who Have Experience in Mentoring, Educating, Conducting Research, and Working with Native Americans to Increase Their Numbers in Science and Engineering.

Comments by the Director of the NSF Office of Integrative Activities.

Thursday, October 30, 2008

Opening Statement by the CEOSE Chair.

Presentations and Discussions:

✓ American Indian Perspective on Broadening Participation in Science and Engineering by the President and CEO of AIHEC

✓ A Perspective on Broadening Participation in Science and Engineering for Chicanos and Native Americans by the President of SACNAS

✓ Report on and Discussion of Recommendations That Result from the Mini-Symposium on Native Americans

✓ Discussion with the NSF Deputy Director

✓ Roundtable Discussion: Lessons Learned at NSF-Sponsored Science and Technology Centers about Broadening the Participation of Native Americans in Science and Engineering

✓ Concurrent meetings of CEOSE Ad Hoc Subcommittees

✓ Reports of CEOSE Ad Hoc Subcommittees

Friday, October 31, 2008

Opening Statement by the CEOSE Chair.

Presentations and Discussions:

✓ Presentation on “The American Chemical Society Scholars Program: Pathways to Success” by the Manager of the Scholars Program of the American Chemical Society

✓ Presentation and Roundtable Discussion: Broadening Participation Programs and Activities of the NSF Office of International Science and Engineering, as Well as Other Directorates and Major Science and Engineering Offices

✓ Comments by Federal Agency Liaisons to CEOSE

✓ Reports by CEOSE Liaisons to NSF Advisory Committees

✓ Completion of Unfinished Business

Dated: October 3, 2008.
Susanne Bolton,
Committee Management Officer.

[FR Doc. E8-23813 Filed 10-7-08; 8:45 am]

BILLING CODE 7555-01-P